SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before December 29, 2009.

ADDRESSES: Send all comments regarding whether this information collection is necessary for the proper performance of the function of the agency, whether the burden estimates are accurate, and if there are ways to minimize the estimated burden and enhance the quality of the collection, to Cynthia Pitts, Director, Disaster Administrative Services, Small Business Administration, 409 3rd Street, 6th Floor, Washington, DC 20416.

FOR FURTHER INFORMATION CONTACT: Cynthia Pitts, Director, Disaster Administrative Services 202-205-7570 cynthia.pitts@sba.gov; Curtis B. Rich, Management Analyst, 202-205-7030 curtis.rich@sba.gov.

SUPPLEMENTARY INFORMATION: SBA is required to survey affected disaster areas within a state upon request by the Governor of that state to determine if there is sufficient change to warrant a disaster Declaration.

Title: “Disaster Survey Worksheet.”

Description of Respondents: Applicants who warrant Disaster Declaration.

Form Number: 987.

Annual Responses: 2,640.

Annual Burden: 219.

Jacqueline White,
Chief, Administrative Information Branch.

[FR Doc. E9-26217 Filed 10-29-09; 8:45 am]

BILLING CODE P